DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permits.

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before August 5, 2013.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington DC, on July 15, 2013.
Donald Burger,
Chief, General Approvals and Permits.

Application No. | Docket No. | Applicant | Regulation(s) affected | Nature of special permit thereof
MODIFICATION SPECIAL PERMITS
11352-M |  | PepsiCo, Inc. Arlington, TX | 49 CFR 172.200; 172.300; 172.400; 172.500 | To modify the special permit to authorize additional Class 3, 8, and 9 materials.
11947-M |  | Patts Fabrication, Inc. Midland, TX | 49 CFR 173.202; 173.203; 173.241; 173.242 | To modify the special permit to authorize additional Class 3 and 8 materials.
13133-M |  | Department of Defense Scott AFB, IL | 49 CFR 172.320; 173.54(a); 173.56(b); 173.57; 173.58; 173.62 | To modify the special permit to remove the requirement that new explosive substances must be tested and pass the UN Test Series 3 tests.
15110-M |  | Kidde Technologies, Inc., dba Kidde Aerospace & Defense Wilson, NC | 49 CFR 178.65 | To modify the special permit to authorize minor dimensional changes for the existing developmental drawing 348711 which is part of weldment design 447235, the addition of two new weldment designs, two additional Division 2.2 materials, and the use of these cylinders as components on US Naval Aircraft.
15634-M |  | SodaStream USA Mount Laurel, NJ | 49 CFR 171.2(k) | To modify the special permit to authorize the transportation of cylinders by motor vehicle consistent with the limited quanitiy exception.
15691-M |  | Department of Defense Scotts AFB, IL | 49 CFR 180.209 | To reissue the special permit originally issued on an emergency basis.

[FR Doc. 2013-17279 Filed 7-18-13; 8:45 am]

BILLING CODE 4909-60-P